INTERNATIONAL TRADE COMMISSION

[Investigation Nos. 731-TA-1140-1142 (Preliminary)]

Uncovered Innerspring Units From China, South Africa, and Vietnam

Determinations

On the basis of the record ¹ developed in the subject investigations, the United States International Trade Commission (Commission) determines, pursuant to section 733(a) of the Tariff Act of 1930 (19 U.S.C. 1673b(a)) (the Act), that there is a reasonable indication that an industry in the United States is materially injured by reason of imports from China, South Africa, and Vietnam of uncovered innerspring units provided for in statistical reporting number 9404.29.9010 of the Harmonized Tariff Schedule of the United States, that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under section 733(b) of the Act, or, if the preliminary determinations are negative, upon notice of affirmative final determinations in the investigations under section 735(a) of the Act. Parties that filed entries of appearance in the preliminary phase of the investigations need not enter a separate appearance for the final phase of the investigations. Industrial users, and, if the merchandise under investigation is sold at the retail level, representative consumer organizations have the right to appear as parties in Commission antidumping and countervailing investigations. The Secretary will prepare a public service list containing the names and addresses of all persons, or their representatives, who are parties to the investigations.

Background

On December 31, 2007, a petition was filed with the Commission and Commerce by Leggett & Platt Inc., Carthage, MO, alleging that an industry in the United States is materially injured and threatened with further material injury by reason of LTFV imports of uncovered innerspring units from China, South Africa, and Vietnam. Accordingly, effective December 31, 2007, the Commission instituted antidumping duty investigation Nos. 731-TA-1140-1142 (Preliminary).

Notice of the institution of the Commission's investigations and of a public conference to be held in connection therewith was given by posting copies of the notice in the Office of the Secretary, U.S. International Trade Commission, Washington, DC, and by publishing the notice in the Federal Register of January 7, 2008 (73 FR 1229). The conference was held in Washington, DC, on January 22, 2008, and all persons who requested the opportunity were permitted to appear in person or by counsel.

The Commission transmitted its determinations in these investigations to the Secretary of Commerce on February 14, 2008. The views of the Commission are contained in USITC Publication 3983 (February 2008), entitled Uncovered Innerspring Units from China, South Africa, and Vietnam: Investigation Nos. 731-TA-1140-1142 (Preliminary).

By order of the Commission.
Issued: February 27, 2008.
Marilyn R. Abbott,
Secretary to the Commission.

[FR Doc. E8-5038 Filed 3-12-08; 8:45 am]

BILLING CODE 7020-02-P